OFFICE OF PERSONNEL MANAGEMENT

5 CFR Part 532

RIN 3206-AJ30

Prevailing Rate Systems; Change in the Survey Cycle for the Pennington, South Dakota, Nonappropriated Fund Wage Area

AGENCY: Office of Personnel Management.

ACTION: Final rule.

SUMMARY: The Office of Personnel Management is issuing a final rule to change the timing of local wage surveys in the Pennington, South Dakota, nonappropriated fund Federal Wage System wage area. The change will help balance the workload for the Department of Defense and improve the amount and quality of data it collects during local annual wage surveys in the Pennington wage area.

DATES: Effective Date: April 24, 2002.

FOR FURTHER INFORMATION CONTACT: Chenty I. Carpenter at (202) 606-8359; by FAX at (202) 606-4264; or by email at cicarpen@opm.gov.

SUPPLEMENTARY INFORMATION: On December 19, 2000, the Office of Personnel Management (OPM) published a proposed rule to change the timing of local wage surveys in the Pennington, South Dakota, nonappropriated (NAF) Federal Wage System (FWS) wage area (65 FR 79320). The proposed rule provided a 30-day period for public comment, during which OPM received no comments.

The Department of Defense (DOD), the lead agency for the Pennington, SD, wage area, requested that the survey schedule be changed so that full-sale surveys could be conducted in June of even-numbered fiscal years. DOD conducted a full-scale survey in January 2002 and will conduct another full-scale survey in June 2002. The change from January to June will help avoid problems associated with conducting local wage surveys during inclement weather in western South Dakota and will improve wage survey participation and data yield. In addition, the new survey cycle will allow DOD to achieve a better balance in its wage survey workload.

The Federal Prevailing Rate Advisory Committee, the national labor-management committee responsible for advising OPM on matters concerning the pay of FWS employees, recommended by consensus that we change the full-scale survey cycle for the Pennington NAF wage area from January of even-numbered fiscal years to June of even-numbered fiscal years.

Regulatory Flexibility Act

I certify that this regulation will not have a significant economic impact on a substantial number of small entities because it affects only Federal agencies and employees.

List of Subjects in 5 CFR Part 532

Administrative practice and procedure, Freedom of information, Government employees, Reporting and recordkeeping requirements, Wages.

U.S. Office of Personnel Management.
Kay Coles James,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

Appendix A to Subpart B of Part 532—[Amended]

2. Appendix B to subpart B is amended by revising under the State of South Dakota the listing of beginning month of survey from “January” to “June” for the Pennington NAF wage area.

[FR Doc. 02-7022 Filed 3-22-02; 8:45 am]

BILLING CODE 6325-39-P